DEPARTMENT OF HOUSING AND URBAN DEVELOPMENT

24 CFR Part 960

[Docket No. FR-5904-N-02]

Strengthening Oversight of Over-Income Tenancy in Public Housing Advance Notice of Proposed Rulemaking; Reopening of Comment Period

AGENCY: Office of the Assistant Secretary for Public and Indian Housing, HUD.

ACTION: Advanced notice of proposed rulemaking (ANPR); Reopening of Comment Period.

SUMMARY: HUD is extending the comment period for the Advanced Notice of Proposed Rulemaking. The original comment period ended on March 4, 2016, but HUD is reopening that period for 30 days to allow interested parties to prepare and submit their comments.

DATES: Comments on the ANPR published at 81 FR 5679, February 3, 2016 are due on or before April 11, 2016.

ADDRESSES: Interested persons are invited to submit comments to the Office of the General Counsel, Regulations Division, Department of Housing and Urban Development, 451 7th Street SW., Room 10276, Washington, DC 20410-0500. Communications should refer to the above docket number and title. There are two methods for submitting public comments.

1. Submission of Comments by Mail. Comments may be submitted by mail to the Regulations Division, Office of General Counsel, Department of Housing and Urban Development, 451 7th Street SW., Room 10276, Washington, DC 20410-0500. Due to security measures at all federal agencies, however, submission of comments by mail often results in delayed delivery. To ensure timely receipt of comments, HUD recommends that comments submitted by mail be submitted at least two weeks in advance of the public comment deadline.

2. Electronic Submission of Comments. Interested persons may submit comments electronically through the Federal eRulemaking Portal at http://www.regulations.gov. HUD strongly encourages commenters to submit comments electronically. Electronic submission of comments allows the commenter maximum time to prepare and submit a comment, ensures timely receipt by HUD, and enables HUD to make comments immediately available to the public. Comments submitted electronically through the http://www.regulations.gov Web site can be viewed by other commenters and interested members of the public. Commenters should follow instructions provided on that site to submit comments electronically.

Note: To receive consideration as public comments, comments must be submitted using one of the two methods specified above. Again, all submissions must refer to the docket number and title of the notice.

No Facsimile Comments. Facsimile (fax) comments are not acceptable.

Public Inspection of Comments. All comments and communications submitted to HUD will be available, for public inspection and copying between 8 a.m. and 5 p.m. weekdays at the above address. Due to security measures at the HUD Headquarters building, an advance appointment to review the public comments must be scheduled by calling the Regulations Division at (202) 708-3055 (this is not a toll-free number). Copies of all comments submitted are available for inspection and downloading at http://www.regulations.gov.

FOR FURTHER INFORMATION CONTACT: Todd Thomas, Office of Public and Indian Housing, Department of Housing and Urban Development, 451 7th Street SW., Room 4100, Washington, DC 20410-4000; telephone number (678) 732-2056 (this is not a toll-free number). Persons with hearing or speech impairments may contact this number via TTY by calling the toll-free Federal Relay Service at 800-877-8339.

SUPPLEMENTARY INFORMATION: On February 3, 2016, HUD published an advanced notice of proposed rulemaking, 81 FR 5679, February 3, 2016, seeking input from the public on many issues, including questions presented in this notice, including how HUD can structure policies to reduce the number of individuals and families in public housing whose incomes significantly exceed the income limit and have significantly exceeded the income limit for a sustained period of time after initial admission. In response to several requests, HUD is reopening the comment period for another 30 days.

Dated: March 2, 2016.
Jemine A. Bryon,
General Deputy Assistant, Secretary for Public and Indian Housing.

[FR Doc. 2016-05210 Filed 3-9-16; 8:45 am]

BILLING CODE 4210-67-P